DEPARTMENT OF THE INTERIOR

Bureau of Reclamation

[DES 03-50]

Transfer of Title to Facilities, Works, and Lands of the Gila Project, Wellton-Mohawk Division to the Wellton-Mohawk Irrigation and Drainage District, Yuma County, AR (Wellton-Mohawk Title Transfer)

AGENCY: Bureau of Reclamation, Interior.

ACTION: Notice of availability, Draft Environmental Impact Statement, Wellton-Mohawk title transfer.

SUMMARY: Pursuant to the National Environmental Policy Act (NEPA) of 1969, as amended, the Bureau of Reclamation (Reclamation) has prepared a Draft Environmental Impact Statement (DEIS) to evaluate the potential effects of the proposed Wellton-Mohawk Title Transfer. The title transfer will transfer ownership and divest Reclamation of the responsibility for the operation, maintenance, management, regulation of, and liability for the project facilities and appurtenant lands to the entity that has demonstrated its ability to manage the project, the Wellton-Mohawk Irrigation and Drainage District (District). This title transfer will consolidate management responsibility with the District, thereby allowing the District to have greater authority in the management of growth and land based issues in the Wellton-Mohawk Valley, protect against encroachment on agriculture, and consolidate ownership of lands, facilities, and the Gila River Flood Channel.

DATES: The public review period shall close on October 29, 2003. Written comments on the DEIS must be received at the address listed under the ADDRESSES section.

Public hearings will also be held to accept oral and written comments on the DEIS at:

• Wellton, Arizona, on Wednesday, October 1, 2003, from 7 to 9 p.m.

• Yuma, Arizona, on Thursday, October 2, 2003, from 7 to 9 p.m.

The public hearing facilities are accessible to those who are physically-challenged. Please contact Ms. Nancy Blake by telephone at (602) 258-0234 or by facsimile at (602) 258-2352 for accessibility accommodations, including sign language interpreters or other auxiliary aids. Requests should be made by September 17, 2003, to allow sufficient time to arrange for accommodation.

ADDRESSES: Written comments on the DEIS should be submitted to Ms. Margot Selig, Lower Colorado Regional Office, Bureau of Reclamation, PO Box 61470, BCOO-4451, Boulder City, NV 89006-1470, or via facsimile to (702) 293-8042.

The public hearings will be held at:

• Antelope Union High School, 9168 South Avenue 36E, Wellton, Arizona

• Ramada Inn Chilton and Conference Center—Inca Room, 300 East 32nd Street, Yuma, Arizona

See the SUPPLEMENTARY INFORMATION section below for locations where copies of the DEIS are available for public review and inspection.

FOR FURTHER INFORMATION CONTACT: Ms. Margot Selig, Lower Colorado Regional Title Transfer Coordinator, Bureau of Reclamation, (702) 293-8192. Those wishing to obtain a copy of the DEIS in the form of a printed document or on compact disk (CD-ROM with Adobe Acrobat Reader included), or a summary of the DEIS may contact Ms. Selig.

SUPPLEMENTARY INFORMATION:

Public Disclosure

Our practice is to make comments, including names and home addresses of respondents, available for public review. Individual respondents may request that we withhold their home address from public disclosure, which we will honor to the extent allowable by law. There may be other circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Hearing Process Information

Requests to make oral comments at the public hearings may be made at each hearing. Comments will be recorded by a court reporter. Speakers will be called in the order of their requests. In the interest of available time, each speaker will be asked to limit oral comments to 5 minutes. Longer comments should be summarized at the public hearing and submitted in writing either at the public hearing or identified as hearing comments and mailed to be received by Ms. Selig no later than September 29, 2003.

Background

The DEIS will be used in the decision-making process pursuant to the Wellton-Mohawk Transfer Act of June 2000 (Pub. L. 106-221), whereby the Secretary of the Interior was authorized to transfer title to the Wellton-Mohawk Division of the Gila Project works, facilities and certain federally-owned lands from the United States to the District. The District is a political subdivision of the State of Arizona constituted to own lands and facilities and to contract with Reclamation for diversion of Colorado River water for delivery to its landowners. Reclamation and the District signed a Memorandum of Agreement (MOA) in July 1998, amended May 11, 2001, which defines the methods and principles of this title transfer process.

Two alternatives are evaluated in the DEIS: (1) the No Action Alternative, under which facilities of the Wellton-Mohawk Division of the Gila Project and lands within or adjacent to the Gila Project would remain in Federal ownership, and (2) the Proposed Action/Preferred Alternative under which Reclamation would transfer title to the facilities of the Wellton-Mohawk Division of the Gila Project and lands within or adjacent to the Gila Project to the District.

Review and Inspection of the DEIS

Copies of the DEIS are available for public review at the following locations:

• Wellton-Mohawk Irrigation and Drainage District, 30570 Wellton-Mohawk Drive, Wellton, AZ, telephone: (928) 785-3351

• Dateland School Branch Library, Avenue 64 East, Dateland, AZ, telephone: (928) 454-2243

• Foothills Branch Library, 11279 South Glenwood Avenue, Yuma, AZ, telephone: (928) 342-1640

• Roll Branch Library, 5151 South Avenue 39 East, Roll, AZ, telephone: (928) 785-3701

• Wellton Branch Library, 10425 Williams Street, Wellton, AZ, telephone: (928) 785-9575

• Yuma County Main Library, 350 South 3rd Avenue, Yuma, AZ, telephone: (928) 782-1871

Internet

The DEIS is also available on the Internet at http://www.usbr.gov/lc/yuma/ and http://www.bookmanedmonston.com.

Dated: August 12, 2003.
Lorri Gray,
Assistant Regional Director, Lower Colorado Region.

[FR Doc. 03-22510 Filed 9-3-03; 8:45 am]

BILLING CODE 4310-MN-P